DEPARTMENT OF COMMERCE

National Oceanic and Atmospheric Administration

50 CFR Part 660

[I.D. 123101B]

Pacific Fishery Management Council; Public Meetings and Hearings

AGENCY: National Marine Fisheries Service (NMFS), National Oceanic and Atmospheric Administration (NOAA), Commerce.

ACTION: Notice of availability of reports; public meetings and hearings.

SUMMARY: The Pacific Fishery Management Council (Council) has begun its annual preseason management process for the 2002 ocean salmon fisheries. This document announces the availability of Council documents as well as the dates and locations of Council meetings and public hearings comprising the Council’s complete schedule of events for determining the annual proposed and final modifications to ocean salmon fishery management measures. The agendas for the March and April Council meetings will be published in subsequent Federal Register documents prior to the actual meetings.

DATES: Written comments on the salmon management options must be received by April 2, 2002, at 4:30 p.m. Pacific Time.

ADDRESSES: Documents will be available from and written comments should be sent to Dr. Hans Radtke, Chairman, Pacific Fishery Management Council, 7700 NE Ambassador Place, Suite 200, Portland, Oregon 97220, facsimile 503-326-6831. For specific meeting and hearing locations, see SUPPLEMENTARY INFORMATION.

FOR FURTHER INFORMATION CONTACT: Mr. Chuck Tracy, telephone 503-326-6352.

SUPPLEMENTARY INFORMATION:

Schedule For Document Completion and Availability

March 5, 2002: “Review of 2001 Ocean Salmon Fisheries” and “Preseason Report I-Stock Abundance Analysis for 2002 Ocean Salmon Fisheries” will be available to the public from the Council office.

March 26, 2002: “Preseason Report II” and public hearing schedule will be mailed to the public. The report will include a description of the adopted salmon management options and a summary of their biological and economic impacts.

April 24, 2002: Newsletter describing adopted ocean salmon fishing management measures will be mailed to the public.

May 1, 2002: Federal regulations will be implemented and “Preseason Report III- Analysis of Council-Adopted Ocean Salmon Management Measures for 2002 Ocean Salmon Fisheries” will be available from the Council office.

Meetings and Hearings

January 22-25, 2002: The Salmon Technical Team (STT) will meet at the Council office in a public work session to draft “Review of 2001 Ocean Salmon Fisheries” and to consider any other estimation or methodology issues pertinent to the 2002 ocean salmon fisheries.

February 19-22, 2002: STT will meet at the Council office in a public work session to draft “Preseason Report I-Stock Abundance Analysis for 2002 Ocean Salmon Fisheries” and to consider any other estimation or methodology issues pertinent to the 2002 ocean salmon fisheries.

March 11-15, 2002: Council and advisory entities will meet at the Red Lion Hotel Sacramento, Sacramento, CA to adopt the 2002 salmon management options for public review.

April 1-3, 2002: Public hearings will be held to receive comments on the proposed ocean salmon fishery management options adopted by the Council. All public hearings begin at 7 p.m. on the dates and at the locations specified here.

April 1, 2002: Chateau Westport, Beach Room, 710 W Hancock, Westport, WA 98595, telephone 360-268-9101.

April 1, 2002: Red Lion Hotel, South Umpqua Room, 1313 N Bayshore Drive, Coos Bay, OR 97420, telephone 541-267-4141.

April 2, 2002: Red Lion Hotel Eureka, Evergreen Room, 1929 Fourth Street, Eureka, CA 95501, telephone 707-445-0844.

April 8-12, 2002: Council and advisory entities meet at the DoubleTree Hotel - Columbia River, 1401 North Hayden Island Drive, Portland, OR 97217, to adopt 2001 management measures for implementation by NMFS.

April 9, 2002: Testimony on the management options is taken during the Council meeting at the DoubleTree Hotel - Columbia River, Riverview Ballroom, 1401 North Hayden Island Drive, Portland, OR 97217, telephone 503-283-2111.

Although nonemergency issues not contained in the STT meeting agendas may come before the STT for discussion, those issues may not be the subject of formal STT action during these meetings. STT action will be restricted to those issues specifically listed in this document and to any issues arising after publication of this notice requiring emergency action under section 305 (c) of the Magnuson-Stevens Fishery Conservation and Management Act, provided the public has been notified of the STT’s intent to take final action to address the emergency.

Special Accommodations

The meetings are physically accessible to people with disabilities. Requests for sign language interpretation or other auxiliary aids should be directed to Ms. Carolyn Porter at 503-326-6352 (voice), or 503-326-6831 (fax) at least 5 days prior to the meeting date.

Authority: 16 U.S.C. 1801 et seq.

Dated: January 3, 2002..
Bruce C. Morehead,
Acting Director, Office of Sustainable Fisheries, National Marine Fisheries Service.

[FR Doc. 02-551 Filed 1-8-02; 8:45 am]

BILLING CODE 3510-22-S